NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on April 10-12, 2003, in Conference Room T-2B3, 11545 Rockville Pike, Rockville, Maryland. The date of this meeting was previously published in the Federal Register on Wednesday, November 20, 2002 (67 FR 70094).

Thursday, April 10, 2003

8:30 a.m.-8:35 a.m.: Opening Statement by the ACRS Chairman (Open)—The ACRS Chairman will make opening remarks regarding the conduct of the meeting.

8:35 a.m.-9:45 a.m.: Draft Finial Risk-Informed Revisions to 10 CFR 50.44, “Standards for Combustible Gas Control System in Light-Water-Cooled Power Reactors” (Open)—The Committee will hear presentations by and hold discussions with representatives of the NRC staff regarding the draft final risk-informed revisions to 10 CFR 50.44.

10 a.m.-12:30 p.m.: Draft Final Regulatory Guide, DG-1122, “Determining the Technical Adequacy of PRA Results for Risk-Informed Activities” (Open)—The Committee will hear presentations by and hold discussions with representatives of the NRC staff regarding the draft final version of DG-1122, including resolution of public comments.

1:30 p.m.-3:15 p.m.: Control Room Habitability (Open)—The Committee will hear presentations by and hold discussions with representatives of the NRC staff regarding four draft regulatory guides concerning control room habitability, dose assessment, meteorological effects, and in-leakage testing as well as a related draft generic letter.

3:30 p.m.-4:45 p.m.: Preparation for Meeting with the NRC Commissioners (Open)—The Committee will discuss the following topics scheduled for the ACRS meeting with the NRC Commissioners between 9-11 a.m. on April 11, 2003: Overview by the ACRS Chairman, Advanced Reactor Designs, Pressurized Thermal Shock Technical Basis Reevaluation Project, and ACRS Report on the NRC Safety Research Program.

5 p.m.-7:15 p.m.: Proposed ACRS Reports (Open)—The Committee will discuss proposed ACRS reports on matters considered during this meeting, as well as proposed ACRS reports on Advancement of PRA Technology to Improve Risk-Informed Decisionmaking, and Insights/Safety Culture.

Friday, April 11, 2003

8:30 a.m.-8:40 a.m.: Opening Remarks by the ACRS Chairman (Open)—The ACRS Chairman will make opening remarks regarding the conduct of the meeting.

9 a.m.-11 a.m.: Meeting with the NRC Commissioners (Open)—The Committee will meet with the NRC Commissioners in the Commissioners' Conference Room, One White Flint North to discuss items of mutual interest noted above.

11:15 a.m.-12:15 p.m.: Significant Recent Operating Events (Open)—The Subcommittee Chairman will discuss significant recent operating events.

1:15 p.m.-2:15 p.m.: Refresher Training Course for Members (Open)—Representatives of the Offices of the General Counsel, Administration, and Security will provide a refresher training course for the members regarding the ethics, conflict-of-interest, travel , and security requirements.

2:15 p.m.-2:30 p.m.: Subcommittee Report on the Interim Review of the License Renewal Application for the St. Lucie Nuclear Power Plant (Open)—Report by the Chairman of the ACRS Subcommittee on Plant License Renewal regarding the Subcommittee's review of the St. Lucie license renewal application and the staff's initial Safety Evaluation Report.

2:30 p.m.-2:45 p.m.: Subcommittee Report on AP1000 Thermal-Hydraulic Matters (Open)—Report by the Chairman of the ACRS Subcommittee on Thermal-Hydraulic Phenomena regarding the Subcommittee's review of the thermal-hydraulic matters associated with the AP1000 passive plant design.

3 p.m.-3:45 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

3:45 p.m.-4 p.m.: Reconciliation of ACRS Comments and Recommendations (Open)—The Committee will discuss the responses from the NRC Executive Director for Operations (EDO) to comments and recommendations included in recent ACRS reports and letters. The EDO responses are expected to be made available to the Committee prior to the meeting.

4 p.m.-7 p.m.: Preparation of ACRS Reports (Open)—The Committee will discuss proposed ACRS reports.

Saturday, April 12, 2003

8:30 a.m.-1 p.m.: Proposed ACRS Reports (Open)—The Committee will continue to discuss proposed ACRS reports.

1:00 p.m.-1:30 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

Further information regarding topics to be discussed, whether the meeting has been canceled or rescheduled, as well as the Chairman's ruling on requests for the opportunity to present oral statements and the time allotted therefor can be obtained by contacting Dr. Sher Bahadur, Associate Director for Technical Support (301-415-0138), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: March 17, 2003.
Andrew L. Bates,
Advisory Committee Management Officer.

[FR Doc. 03-6806 Filed 3-20-03; 8:45 am]

BILLING CODE 7590-01-P